ENVIRONMENTAL PROTECTION AGENCY

[OEI-2004-0004, FRL-7859-6]

Agency Information Collection Activities: Submission to OMB for Review and Approval; Comment Request; Compliance Assurance Monitoring Program (Renewal), EPA ICR Number 1663.04, OMB Control Number 2060-0376

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing collection. This ICR is scheduled to expire on February 28, 2005. Under OMB regulations, the Agency may continue to conduct or sponsor the collection of information while this submission is pending at OMB. This ICR describes the nature of the information collection and its estimated burden and cost.

DATES: Additional comments may be submitted on or before February 9, 2005.

ADDRESSES: Submit your comments, referencing docket ID number OEI-2004-0004, to EPA online using EDOCKET (our preferred method), by email: oei.Docket@epa.gov, or by mail to: Environmental Protection Agency, EPA Docket Center (EPA/DC), Office of Environmental Information Docket, MC 28221T, 1200 Pennsylvania Avenue, NW., Washington, DC 20460.

FOR FURTHER INFORMATION CONTACT: Peter R. Westlin, Environmental Protection Agency, Office of Air Quality Planning and Standards, Mail Code C339-02, Research Triangle park, North Carolina 27711; telephone number: (919) 541-1058; fax number: (919) 541-1039; email address: westlin.peter@epa.gov.

SUPPLEMENTARY INFORMATION: EPA has submitted the following ICR to OMB for review and approval according to the procedures prescribed in 5 CFR 1320.12. On October 5, 2004, (69 FR 59589), EPA sought comments on this ICR pursuant to 5 CFR 1320.8(d). EPA has received no comments.

EPA has established a public docket for this ICR under Docket ID number OEI-2004-0004, which is available for public viewing at the Office of Environmental Information Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Compliance Assurance Monitoring Program (40 CFR part 64) (Renewal).

Abstract: The Clean Air Act contains several provisions directing us to require source owners to conduct monitoring to support certification as to their status of compliance with applicable requirements. These provisions are set forth in title V (operating permits provisions) and title VII (enforcement provisions) of the Act. Title V directs us to implement monitoring and certification requirements through the operating permits program. Section 504(b) of the Act allows us to prescribe by rule, methods and procedures for determining compliance recognizing that continuous emissions monitoring systems need not be required if other procedures or methods provide sufficiently reliable and timely information for determining compliance. Under section 504(c), each operating permit must “set forth inspection, entry, monitoring, compliance, certification, and reporting requirements to assure compliance with the permit terms and conditions.” Section 114(a)(3) requires us to promulgate rules for enhanced monitoring and compliance certifications. Section 114(a)(1) of the Act provides additional authority concerning monitoring, reporting, and recordkeeping requirements. This section provides the Administrator with the authority to require any owner or operator of a source to install and operate monitoring systems and to record the resulting monitoring data. We promulgated the Compliance Assurance Monitoring rule, part 64, on October 22, 1997 (62 FR 54900) to implement these authorities.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 28 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators and permitting authorities of sources with a pre-control potential to emit major amounts of regulated air pollutants.

Estimated Number of Respondents: 2,308.

Frequency of Response: semiannually.

Estimated Total Annual Hour Burden: 63,688.

Estimated Total Annual Cost: $4,491,927, which includes $1,260,058 annualized capital/start-up costs, $180,000 annual O&M costs, and $3,051,869 annual labor costs.

Changes in the Estimates: There is a decrease of 109,010 hours in the total estimated burden currently identified in the OMB Inventory of Approved ICR Burdens. This decrease is a result of an adjustment to the number of facilities and emissions units affected by part 64 and a refocusing of the resource burden from regulatory applicability analysis to monitoring design and implementation.

Dated: December 20, 2004.
Oscar Morales,
Director, Collection Strategies Division.

[FR Doc. 05-420 Filed 1-7-05; 8:45 am]

BILLING CODE 6560-50-P